DEPARTMENT OF THE INTERIOR

Fish and Wildlife Service

50 CFR Part 92

[Docket No. FWS-R7-MB-2020-0134; FXMB12610700000-201-FF07M01000]

RIN 1018-BF08

Migratory Bird Subsistence Harvest in Alaska

AGENCY: Fish and Wildlife Service, Interior.

ACTION: Announcement.

SUMMARY: The U.S. Fish and Wildlife Service (Service or we) announces that we are extending the Kodiak Island Roaded Area experimental season for subsistence migratory bird hunting and egg gathering by registration permit for 1 year (through the spring-summer subsistence harvest season [hereafter, “season”] in 2024). As set forth in a 2021 final rule, this experimental season began in the 2021 season and was set to terminate at the end of the 2023 season. However, we are extending the experimental season to provide subsistence harvest opportunity for an additional year while an evaluation of harvest data from the first 3 years of the experimental season is completed and a long-term plan is developed. Extending the experimental season requires no revision of the regulations pertaining to subsistence harvest of migratory birds in Alaska; we are issuing this document solely for the purpose of public information.

DATES: We make this announcement May 1, 2024. The rule that published April 19, 2021, at 86 FR 20311 setting forth the regulations pertaining to the experimental hunt was effective April 19, 2021.

ADDRESSES: You may find supplementary materials for the 2021 rulemaking action as well as the comments received at the Federal eRulemaking Portal: https://www.regulations.gov in Docket No. FWS-R7-MB-2020-0134.

FOR FURTHER INFORMATION CONTACT: Wendy Loya, U.S. Fish and Wildlife Service, 1011 E Tudor Road, Mail Stop 201, Anchorage, AK 99503; (907) 227-2942. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION:

Background

Under the Migratory Bird Treaty Act (16 U.S.C. 703 et seq.), the Secretary of the Interior regulates the harvest of certain species of migratory birds, including establishing regulations for fall-winter harvest and for take by the indigenous inhabitants of the State of Alaska for their essential needs. The subsistence take of migratory birds in Alaska occurs during the spring and summer, when the harvest of migratory birds is not allowed elsewhere in the United States. Regulations governing the subsistence take of migratory birds in Alaska are in title 50 of the Code of Federal Regulations (CFR) in part 92. The regulations in 50 CFR 92.31 specify when and where the harvesting of birds for subsistence purposes may occur in 12 different regions of Alaska.

The migratory bird subsistence harvest regulations are developed cooperatively by the Alaska Migratory Bird Co-Management Council (hereafter, “the Council”), which consists of the Service, the Alaska Department of Fish and Game, and Alaska Native representatives. The Council's primary purpose is to develop recommendations pertaining to the subsistence harvest of migratory birds.

Regulations for the Kodiak Archipelago Region

On February 26, 2021, we published a proposed rule (86 FR 11707), and on April 19, 2021, we published the subsequent final rule (86 FR 20311), to revise the Alaska subsistence harvest regulations. The 2021 rulemaking action incorporated regulatory amendments that were recommended by the Council in 2019 and approved by the Service in 2020 (85 FR 73233, November 17, 2020) and included revisions to 50 CFR 92.31(e), pertaining to the Kodiak Archipelago Region. The rule provided for a 3-year experimental season for subsistence migratory bird hunting and egg gathering by registration permit only within the Kodiak Island Roaded Area (hereafter, “the Roaded Area”). The regulations allow residents of the Kodiak Archipelago Region the opportunity to participate in subsistence harvest activities without the need for a boat. Prior to the 2021 final rule, the Roaded Area and marine waters adjacent to the Roaded Area (within 500 feet from the water's edge), were closed to harvest. Under these regulations, which are still in effect, the Roaded Area is closed to hunting and egg gathering for Arctic terns, Aleutian terns, mew gulls, and emperor geese.

The Council expected that the 3-year experimental season would begin in 2020 and continue through 2022, and the preambles to the 2020 proposed and final rules associated those years (2020-2022) with the 3-year experimental season. However, delays in the 2020 rulemaking process prevented the 3-year experimental season from beginning in 2020 as initially planned. Therefore, in the April 19, 2021, final rule (86 FR 20311), we stated that our intent to allow a 3-year experimental season for migratory bird hunting and egg gathering by registration permit along the Roaded Area remained the same, but that this activity would now occur during the 2021-2023 seasons with the experimental season terminating at the end of 2023. We further stated that reopening the Roaded Area after the 3-year experimental period would require a subsequent proposal from the Council for continuation of the season under either operational or experimental status.

Accordingly, in 2021, the Roaded Area was opened to spring-summer subsistence hunting of migratory birds and egg gathering. Participants of this experimental program first must obtain a registration permit and later must report their harvest.

Council Recommendation and Service Decision

In spring of 2023, the Council recommended to the Service that the 3-year experimental season for subsistence migratory bird hunting and egg gathering by registration permit only for the Roaded Area be extended an additional year. Because evaluation of the first 3 years of harvest data will extend into 2024, the Council determined that the experimental period should be extended through the 2024 season.

The 2023 subsistence harvest season closed after August 31, 2023. The Council is now assessing the effect of the experimental season and will develop a recommendation regarding the operational status for the Roaded Area in 2025 and beyond. The 1-year extension will allow the current harvest opportunity to continue until an evaluation of the first 3 years of data (2021-2023) is completed and a proposal to guide future harvest opportunity in the Roaded Area can be developed.

The Service concurs with the Council recommendation. Therefore, we announce that we are extending the experimental season through the end of the 2024 season (August 31, 2024). No revisions to the regulations pertaining to the Kodiak Archipelago Region are necessary because the regulations at 50 CFR 92.31(e) do not specify an end point for the registration permit program.

Authority: This document is published under the authority of the Migratory Bird Treaty Act (16 U.S.C. 703 et seq.).

Jerome Ford,
Assistant Director, Migratory Bird Program.

[FR Doc. 2024-09430 Filed 4-30-24; 8:45 am]

BILLING CODE 4333-15-P